DEPARTMENT OF AGRICULTURE

Animal and Plant Health Inspection Service

[Docket No. APHIS-2008-0146]

Notice of Request for Approval of an Information Collection; National Animal Health Laboratory Network

AGENCY: Animal and Plant Health Inspection Service, USDA.

ACTION: Approval of an information collection; comment request.

SUMMARY: In accordance with the Paperwork Reduction Act of 1995, this notice announces the Animal and Plant Health Inspection Service's intention to request approval of an information collection associated with the National Animal Health Laboratory Network.

DATES: We will consider all comments that we receive on or before March 23, 2009.

ADDRESSES: You may submit comments by either of the following methods:

• Federal eRulemaking Portal: Go to http://www.regulations.gov/fdmspublic/component/main?main=DocketDetail&d=APHIS-2008-0146 to submit or view comments and to view supporting and related materials available electronically.

• Postal Mail/Commercial Delivery: Please send two copies of your comment to Docket No. APHIS-2008-0146, Regulatory Analysis and Development, PPD, APHIS, Station 3A-03.8, 4700 River Road Unit 118, Riverdale, MD 20737-1238. Please state that your comment refers to Docket No. APHIS-2008-0146.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the National Animal Health Laboratory Network, contact Dr. Barbara Martin, Coordinator, National Animal Health Laboratory Network, NVSL, VS, APHIS, 1800 Dayton Avenue, Ames, IA 50010; (515) 663-7731. For copies of more detailed information on the information collection, contact Mrs. Celeste Sickles, APHIS' Information Collection Coordinator, at (301) 851-2908.

SUPPLEMENTARY INFORMATION: Title: National Animal Health Laboratory Network.

OMB Number: 0579-XXXX.

Type of Request: Approval of an information collection.

Abstract: The Animal and Plant Health Inspection Service (APHIS) conducts activities and maintains records pursuant to its missions and responsibilities authorized by the Animal Health Protection Act (7 U.S.C. 8301-8317); Public Health Security and Bioterrorism Preparedness and Response Act of 2002 (Pub. L. 107-188); Homeland Security Presidential Directive-7; and Homeland Security Presidential Directive-9.

The purpose of the National Animal Health Laboratory Network (NAHLN) is to coordinate and network Federal laboratory capacity with the capacity and extensive infrastructure (facilities, professional expertise, and support) of State and university laboratories. APHIS uses the system to enhance early detection of foreign animal disease agents and newly emerging diseases, to better respond to animal health emergencies (including bioterrorist events) that threaten the nation's food supply and public health, and to assist in assessing the nation's animal health status through targeted surveillance and shared animal health diagnostic data.

The NAHLN collects information, including information about laboratories, laboratory personnel (employee) and emergency personnel contacts, animals and owners, and animal disease diagnostic test results.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public reporting burden for this collection of information is estimated to average 0.099932 hours per response.

Respondents: State and university veterinary diagnostic laboratory personnel and State animal health officials.

Estimated annual number of respondents: 89.

Estimated annual number of responses per respondent: 875.98876.

Estimated annual number of responses: 77,963.

Estimated total annual burden on respondents: 7,791 hours. (Due to averaging, the total annual burden hours may not equal the product of the annual number of responses multiplied by the reporting burden per response.)

All responses to this notice will be summarized and included in the request for OMB approval. All comments will also become a matter of public record.

Done in Washington, DC, this 13th day of January 2009.
Kevin Shea,
Acting Administrator, Animal and Plant Health Inspection Service.

[FR Doc. E9-1103 Filed 1-16-09; 8:45 am]

BILLING CODE 3410-34-P